NUCLEAR REGULATORY COMMISSION

[NRC-2016-0061]

In the Matter of All Operating Reactor Licensees

AGENCY: Nuclear Regulatory Commission.

ACTION: Request for action; receipt.

SUMMARY: The U.S. Nuclear Regulatory Commission (NRC) is giving notice that by petition dated February 19, 2016, Roy Mathew, Sheila Ray, Swagata Som, Gurcharan Singh Matharu, Tania Martinez Navedo, Thomas Koshy, and Kenneth Miller (the petitioners) have requested that the NRC take action with regard to all current operating nuclear power plants. The petitioners' requests are included in the SUPPLEMENTARY INFORMATION section of this document.

ADDRESSES: Please refer to Docket ID NRC-2016-0061 when contacting the NRC about the availability of information regarding this document. You may obtain publicly-available information related to this document using any of the following methods:

• Federal Rulemaking Web site: Go to http://www.regulations.gov and search for Docket ID NRC-2016-0061. Address questions about NRC dockets to Carol Gallagher; telephone: 301-415-3463; email: Carol.Gallagher@nrc.gov.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

SUPPLEMENTARY INFORMATION: On February 19, 2016, the petitioners requested that the NRC take action with regard to all current operating nuclear power plants (ADAMS Accession No. ML16050A212). The petitioners requested that the NRC either: (1) Issue orders which require immediate corrective actions including compensatory measures to address the operability of electric power systems in accordance with their plant Technical Specifications, and to implement plant modifications in accordance with current NRC regulatory requirements and staff guidance provided in the references within the 2.206 petition, or (2) issue orders to immediately shutdown the nuclear power plants that are operating without addressing the significant design deficiency identified in NRC Bulletin 2012-01, “Design Vulnerability in Electric Power System,” since the licensees are not in compliance with their Technical Specifications 3.8.1 (typical) requirements related to onsite and offsite power systems.

As the basis for this request, the petitioners refer to a Byron Station operating event, which led to the NRC's issuance of Information Notice 2012-03, “Design Vulnerability in Electric Power System,” dated March 1, 2012 (ADAMS Accession No. ML120480170). On July 27, 2012, the NRC issued Bulletin 2012-01, “Design Vulnerability in Electric Power System” (ADAMS Accession No. ML12074A115), to require that the addressees comprehensively verify their compliance with the regulatory requirements of General Design Criteria (GDC) 17, “Electric Power System,” in Appendix A, “General Design Criteria for Nuclear Power Plants,” to 10 CFR part 50 or the applicable principal design criteria in the updated final safety analysis report; and the design criteria for protection systems under 10 CFR 50.55a(h)(2) and 10 CFR 50.55a(h)(3). All licensees provided a response to Bulletin 2012-01. The NRC staff conducted an analysis of these responses, and documented the details of its review in a summary report dated February 26, 2013 (ADAMS Accession No. ML13052A711). Based on the analysis, the NRC staff determined that some licensees may not fully comply with their site-specific license. The licensees began implementing compensatory measures and corrective actions that the NRC staff has been monitoring.

The request is being treated pursuant to § 2.206 of title 10 of the Code of Federal Regulations (10 CFR) of the Commission's regulations. The request has been referred to the Director of the Office of Nuclear Reactor Regulation. As provided by 10 CFR 2.206, appropriate action will be taken on this petition within a reasonable time.

Dated at Rockville, Maryland, this 21st day of March 2016.
For the Nuclear Regulatory Commission.
William M. Dean,
Director, Office of Nuclear Reactor Regulation.

[FR Doc. 2016-06940 Filed 3-30-16; 8:45 am]

BILLING CODE 7590-01-P